COMMODITY FUTURES TRADING COMMISSION

Technology Advisory Committee

AGENCY: Commodity Futures Trading Commission.

ACTION: Notice; request for nominations and topic submissions.

SUMMARY: The Commodity Futures Trading Commission (CFTC or Commission) is requesting nominations for membership on the Technology Advisory Committee (TAC or Committee) and is also inviting the submission of potential topics for discussion at future Committee meetings. The TAC is a discretionary advisory committee established by the Commission in accordance with the Federal Advisory Committee Act.

DATES: The deadline for the submission of nominations and topics is October 6, 2022.

ADDRESSES: Nominations and topics for discussion at future TAC meetings should be emailed to TAC@cftc.gov or sent by hand delivery or courier to Office of Commissioner Goldsmith Romero, c/o Anthony Biagioli, TAC Designated Federal Officer, Commodity Futures Trading Commission, 1155 21st Street NW, Washington, DC 20581. Please use the title “Technology Advisory Committee” for any nominations or topics you submit. Submissions through the TAC@cftc.gov email address are encouraged.

FOR FURTHER INFORMATION CONTACT: Anthony Biagioli, TAC Designated Federal Officer, at 816-960-7722 or email: ABiagioli@cftc.gov.

SUPPLEMENTARY INFORMATION: The TAC was established to assist the Commission in identifying and understanding the impact and implications of technological innovation in the financial services, derivatives, and commodity (including digital-asset commodity) markets. The TAC may provide advice to the Commission on the appropriate level of investment in technology at the Commission to meet its surveillance and enforcement responsibilities and inform the Commission's consideration of technology-related issues to support the Commission's mission of ensuring the integrity of the markets and achievement of other public interest objectives. The TAC accomplishes its objectives through public meetings and Committee reports and recommendations. The duties of the TAC are solely advisory and include calling for reports and/or recommendations by the TAC or TAC subcommittee(s), adopting reports and/or recommendations, and transmitting reports and/or recommendations to the Commission. Determinations of actions to be taken and policy to be expressed with respect to the reports or recommendations of the TAC are made solely by the Commission.

TAC members generally serve as representatives and provide advice reflecting the views and interests of the organizations and/or entities that actively participate in the financial services and commodity markets that the Commission oversees, or actively consider legal, risk, or other issues presented by those markets. The representative members serve as a vehicle for communication between the Commission and representatives within the viewpoint categories on technology issues affecting those markets. Depending on the issues faced, the Commission may, from time to time, appoint experts to serve as Special Government Employees (SGEs), or officials of other Federal agencies to serve, on the TAC. If nominated, SGEs will be asked to submit and complete a Confidential Financial Disclosure Report (OGE Form 450). Members will represent a wide range of perspectives and interests, and these may include the viewpoint categories listed below. The members will be selected to represent a balance of viewpoints that are necessary or appropriate to effectively address the issues to be considered by the TAC. Though the viewpoint categories and precise number of members in any category may vary over time, the Commission anticipates that the TAC will have no more than 40 members who may represent the following viewpoint categories: (i) market participants in the derivatives and commodities markets; (ii) financial technology providers; (iii) market infrastructure firms, like exchanges and clearinghouses; (iv) other segments of the derivatives and commodities industries; (v) regulatory organizations, which may include self-regulatory organizations; (vi) academia; and (vii) think tanks and public interest groups. The TAC has held at least one meeting per year. TAC members serve at the pleasure of the Commission. In addition, TAC members do not receive compensation or honoraria for their services, and they are not reimbursed for travel and per diem expenses. TAC members are appointed to two-, three-, or four-year terms.

The Commission seeks members who will share their experiences and views on the opportunties and risks that may be associated with technological innovation, including in the derivatives and commodities industries, and ways that the Commission can utilize new or different technologies in carrying out its mission. To advise the Commission effectively, TAC members must have a high level of expertise and experience relating to technological innovation in the financial services, derivatives, or commodity (including digital-asset commodity) markets and the Commission's regulation of such markets, including from a historical perspective. To the extent practicable, the Commission will strive to select members reflecting wide ethnic, racial, gender, and age representation. TAC members should be open to participating in a public forum.

The Commission invites the submission of nominations for TAC membership. Each nomination submission should include relevant information about the proposed member, such as the individual's name, title, and organizational affiliation, as well as information that supports the individual's qualifications to serve on the TAC. The submission should also include suggestions for topics for discussion at future TAC meetings as well as the name and email or mailing address of the person nominating the proposed member.

Submission of a nomination is not a guarantee of selection as a member of the TAC. As noted in the TAC's Membership Balance Plan, the CFTC identifies members for the TAC through a variety of methods. Such methods may include public requests for nominations for membership; recommendations sought from existing or former advisory committee members; consultations with knowledgeable persons outside the CFTC (e.g., persons representing market participants, financial technology providers, market infrastructure firms, regulatory or self-regulatory organizations, academic institutions, think tanks, or public interest groups); requests to be represented received from individuals and organizations; and Commissioners' and CFTC staff's professional knowledge of those experienced in the financial services, derivatives, or commodity markets. The Office of Commissioner Goldsmith Romero, given the Commissioner's sponsorship of the TAC, plays a primary, but not exclusive, role in this process and makes recommendations regarding membership to the Commission. The Commission, by vote, authorizes proposed members to serve on the TAC.

The Commission also invites submissions from the public regarding the topics on which the TAC should focus. In other words, topics that relate to the following:

(a) the impact and implications of technological innovation in the financial services, derivatives, and commodity (including digital-asset commodity) markets;

(b) the utilization of new technologies in financial services, derivatives, and commodity (including digital-asset commodity) markets, as well as by market professionals and market users; and/or

(c) the utilization of technology at the Commission to meet its surveillance and enforcement responsibilities and inform the Commission's consideration of technology-related issues to support the Commission's mission of ensuring the integrity of the markets and achievement of other public interest objectives.

Each topic submission should include the commenter's name and email or mailing address.

(Authority: 5 U.S.C. App. II)

Dated: September 19, 2022.
Robert Sidman,
Deputy Secretary of the Commission.

[FR Doc. 2022-20514 Filed 9-21-22; 8:45 am]

BILLING CODE 6351-01-P